DEPARTMENT OF TRANSPORTATION

Maritime Administration

[Docket No. MARAD-2010-0111]

Stakeholder Meetings Regarding the U.S.-Flag Great Lakes Fleet Revitalization Study

AGENCY: Maritime Administration, Department of Transportation.

ACTION: Notice.

SUMMARY: The purpose of this notice is to announce three public listening-session meetings that are being held to gather data and comments to inform the Maritime Administration's U.S.-Flag Great Lakes Fleet Revitalization Study. The three meetings will be identical in terms of agenda and purpose; they are being held in the different locations to maximize stakeholder participation.

The U.S.-Flag Great Lakes Fleet Revitalization Study will examine the current and potential future role of Great Lakes shipping in supporting the region's economy and as an important component of the greater U.S. Marine Highway system serving the Nation at large. It will also be used to assess the impact of new environmental regulations on the U.S.-Flag Great Lakes Fleet. Of particular interest is the likely impact of the EPA's final emission standards for new marine diesel “Category 3” engines that goes into effect in January 2012.

This study calls for the identification and evaluation of options to recapitalize U.S. vessels and port infrastructure on the Great Lakes, using private and public sector investments, to generate the greatest net benefits for the region and the Nation.

This Maritime Administration study will be a two-phase effort to estimate the costs and options for complying with the new environmental regulations. The first phase will be a data gathering effort. An inventory of current vessel and port assets will be developed. That inventory will be used to determine if the Maritime Administration can assist the U.S. Flag Great Lakes vessel operators in complying with the new regulations.

During the second phase of the study, the Maritime Administration will examine a mix of private and public sector financing options that could be used for vessel or port alterations necessitated by the new environmental regulations. This analysis will be used in developing strategies for how the Maritime Administration might assist the U.S.-Flag Great Lakes Fleet and ports in making those changes.

The Maritime Administration will use the study's findings to develop strategies to promote the U.S.-Flag Great Lakes Fleet and Ports. Stakeholder input is an essential part of the strategy-development process, so the study plan includes three stakeholder listening-sessions where the important issues raised by the study will be discussed. Topics of discussion include the new EPA environmental regulations such as the Control of Emissions from Category 3 Marine Engines and their impact on Great Lakes vessel operators, the state of the Great Lakes shipping markets, and issues facing vessel operators and port operators.

FOR FURTHER INFORMATION CONTACT: For general background information or technical information, contact Stephen Shafer, Maritime Administration, Office of Policy and Plans, 1200 New Jersey Avenue, SE., Washington, DC 20590, or by e-mail: GreatLakesStudy@dot.gov.

Dates and Addresses:

The Cleveland, Ohio, meeting will take place on February 15, 2011, from 8 a.m. to 5 p.m., Eastern Daylight Saving Time. The meeting will be held at Hyatt Regency Cleveland at The Arcade, 420 East Superior Avenue, Cleveland, Ohio, 44114.

Persons interested in attending the meeting should register by February 4, 2011.

The Duluth, Minnesota, meeting will take place on February 23, 2011, from 8 a.m. to 5 p.m., Eastern Daylight Saving Time. The meeting will be held at the Inn on Lake Superior, 350 Canal Park Drive, Duluth, Minnesota, 55802.

Persons interested in attending the meeting should register by February 11, 2011.

The Chicago, Illinois, meeting will take place on February 25, 2011, from 8 a.m. to 5 p.m., Eastern Daylight Saving Time. The meeting will be held at the Sheraton Chicago Hotel and Towers, 301 East North Water Street, Chicago, Illinois, 60611.

Persons interested in attending the meeting should register by February 11, 2011.

Registration: The meetings are open to the public. Advanced registration is recommended. To register, interested parties should send their name, group affiliation, and which of the three meetings they will attend to GreatLakesStudy@absconsulting.com. The meeting agenda will be sent to registered participants prior to the meeting.

The Public Meeting will be held at a site accessible to individuals with disabilities. Individuals who require accommodations such as sign language interpreters should contact ABS Consulting at GreatLakesStudy@absconsulting.com, as soon as possible, but preferably no less than five business days before the scheduled meeting.

By Order of the Maritime Administrator,
Dated: December 23, 2010.
Murray A. Bloom,
Acting Secretary, Maritime Administration.

[FR Doc. 2010-32761 Filed 12-28-10; 8:45 am]

BILLING CODE 4910-81-P